SECURITIES AND EXCHANGE COMMISSION

Sunshine Act Meeting

Notice is hereby given, pursuant to the provisions of the Government in the Sunshine Act, Public Law 94-409, that the Securities and Exchange Commission staff will hold the inaugural roundtable discussion of the Financial Reporting Series on Tuesday, November 8, 2011, in the Multipurpose Room, L-006. The meeting will begin at 10 a.m. and will be open to the public. Seating will be on a first-come, first-served basis. Doors will open at 9:30 a.m. Visitors will be subject to security checks. The roundtable will be webcast on the Commission's Web site at http://www.sec.gov and will be archived for later viewing.

On October 20, 2011, the Commission published notice of the roundtable discussion (Release No. 34-65602), indicating that the event is open to the public and inviting the public to submit written comments to the Commission staff. This Sunshine Act notice is being issued because a majority of the Commission may attend the roundtable discussion.

The agenda for the roundtable includes opening remarks followed by panel discussions focusing on the recognition and communication of uncertainty in financial statements.

For further information, please contact the Office of the Secretary at (202) 551-5400.

Dated: October 27, 2011.
Elizabeth M. Murphy,
Secretary.

[FR Doc. 2011-28312 Filed 10-27-11; 4:15 pm]

BILLING CODE 8011-01-P